DEPARTMENT OF COMMERCE

Foreign-Trade Zones Board

[B-58-2012]

Foreign-Trade Zone 37—Orange County, NY, Notification of Proposed Production Activity, Takasago International Corporation (Fragrances), Harriman, NY

Takasago International Corporation (Takasago) submitted a notification of proposed production activity for their facility located in Harriman, New York. The notification conforming to the requirements of the regulations of the Board (15 CFR 400.22) was received on July 26, 2012

The Takasago facility is located within Site 10 of FTZ 37. The facility is used for the manufacturing of fragrance compounds. Production under FTZ procedures could exempt Takasago from customs duty payments on the foreign status components used in export production. On its domestic sales, Takasago would be able to choose the duty rates during customs entry procedures that apply to fragrances (duty-free) for the foreign status inputs noted below. Customs duties also could possibly be deferred or reduced on foreign status production equipment.

Components and materials sourced from abroad include: Caryophyllene acetate; cooling agents; coolact; DH citronellol; DH citronellal; florasantol; hydroxycitronellal DMA; hedirosa; kovanol; 1aurinal; lemon oil; longozal; L-citrol; mercaptomenthone; meth-4-propyl-1, 3-oxathia; muscone; meth fenchol; thiogeraniol; verdone; furfural; heliotropine; meth caproate; terpene T “SP”; thesaron; cis-jasmone; citronellol-L; trepanol; menthol; musk; oxalide; perilla oil; cyclohexyl lactone; hotact VBE; santalex T; heliotropyl acetate; ambretone; menthol-L synthetic flakes; citral natural; citronellyl formate; citronellyl tiglate; coniferan; fenchyl ALC; hindinol; isoproppoxy ether; isobornyl methyl ether; menthone; ionones and methylionones; orbitone; pinene; TH geranyl acetate; bornyl acetate; citronellal extra; dihydromyrcenol; fenchyl acetate; fenchyl alcohol; dimethyl dioxolan; isopropoxyethyl; lavender oil; limonene-L; levosandol; myrcene; methyl ionone gamma; nerol; nopyl acetate; phellandrene; terpinen-4-ol; tetrahydro myrcenol; terpinene; estragole; neryl acetate; suzaral; citronellyl nitrile; camphene; citronellal natural; geraniol; methyl dioxolan; citral; violet; isobornyl methyl ether; cypressan; terpinene gamma; cedanol; ambrinol; methyl ionone; and other aroma chemicals, mixtures of odiferous substances and essential oils (duty rate ranges from duty free to 7%).

Public comment is invited from interested parties. Submissions shall be addressed to the Board's Executive Secretary at the address below. The closing period for their receipt is September 12, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: July 30, 2012.
Andrew McGilvray,
Executive Secretary.

[FR Doc. 2012-19063 Filed 8-2-12; 8:45 am]

BILLING CODE 3510-DS-P